DEPARTMENT OF TRANSPORTATION

Federal Aviation Administration

Permanent Closure of Grundy Municipal Airport

AGENCY: Federal Aviation Administration (FAA), DOT.

ACTION: Notice of permanent closure of Grundy Municipal Airport (GDY).

SUMMARY: The Federal Aviation Administration (FAA) received written notice on September 4, 2019, from the town of Grundy advising that effective October 31, 2019, the town will be permanently closing Grundy Municipal Airport (GDY), Grundy, Virginia.

DATES: The permanent closure of the airport is effective as of October 31, 2019.

FOR FURTHER INFORMATION CONTACT: John M. Robinson, Airport Engineer, Washington Airports District Office, Federal Aviation Administration, 13873 Park Center Road, Suite 490S, Herndon, VA 20171, (703) 487-3976.

SUPPLEMENTARY INFORMATION: GDY is a small 89-acre non-towered, general aviation airport, that is listed in the national plan of integrated airport systems. It has been owned and operated by the town of Grundy since 1963. Although the town of Grundy has been the recipient of grant funding from the FAA in the past, the FAA recognizes that the town is no longer contractually obligated by these previous grant agreements to continue operating GDY as an airport. Section 46319 of Title 49 of the United States Code [49 U.S.C. 46319] provides that a public agency (as defined in 49 U.S.C. 47102) may not permanently close an airport listed in the national plan of integrated airport systems under 49 U.S.C. 47103 without providing written notice to the Administrator of the FAA at least 30 days before the date of the closure. The FAA recognizes the letter received September 4, 2019 from the town of Grundy meets that requirement. The FAA is publishing the town of Grundy's notice of permanent closure of Grundy Municipal Airport in accordance with 49 U.S.C. 46319(b).

Issued in, Herndon, VA, on September 18, 2019.
Matthew J. Thys,
Manager, Washington Airports District Office.

[FR Doc. 2019-20684 Filed 9-23-19; 8:45 am]

BILLING CODE 4910-13-P